DEPARTMENT OF COMMERCE

International Trade Administration

A-552-801

Certain Frozen Fish Fillets from the Socialist Republic of Vietnam: Amended Final Results of the Fourth Antidumping Duty Administrative Review

AGENCY: Import Administration, International Trade Administration, Department of Commerce.

EFFECTIVE DATE: April 17, 2009.

FOR FURTHER INFORMATION CONTACT: Alan Ray, AD/CVD Operations, Office 9, Import Administration, International Trade Administration, U.S. Department of Commerce, 14th Street and Constitution Avenue, N.W., Washington, DC, 20230; telephone: (202) 482-5403.

SUPPLEMENTARY INFORMATION:

Amendment to the Final Results:

In accordance with sections 751(h) and 777(i)(1) of the Tariff Act of 1930, as amended, (“Act”), on March 9, 2009, the Department of Commerce (“Department”) issued¹ the final results in the antidumping administrative review of certain frozen fish fillets from the Socialist Republic of Vietnam (“Vietnam”). See Certain Frozen Fish Fillets From the Socialist Republic of Vietnam: Final Results of the Antidumping Duty Administrative Review and New Shipper Reviews, 74 FR 11349 (March 17, 2009) (“Final Results”).

¹ The Department publically announced the final results on March 10, 2009.

On March 17, 2009, Petitioners² and QVD Food Company Ltd. (“QVD”) filed timely allegations that the Department made various ministerial errors in the Final Results and requested, pursuant to 19 CFR 351.224, that the Department correct the alleged ministerial errors in the calculation of the margins for QVD. On March 23, 2009, Petitioners and QVD filed rebuttal comments with respect to these ministerial error allegations. No other party in this proceeding submitted comments on the Department's final margin calculations.

² Catfish Farmers of America and individual U.S. catfish processors.

A ministerial error is defined as “an error in addition, subtraction, or other arithmetic function, clerical error resulting from inaccurate copying, duplication, or the like, and any other type of unintentional error which the §Department§ considers ministerial.” See section 751(h) of the Act; see also 19 CFR 351.224(f).

After analyzing all interested party comments and rebuttals, we have determined, in accordance with section 751(h) of the Act and 19 CFR 351.224(e), that we made ministerial errors in our calculations for the final results with respect to QVD. For a detailed discussion of these ministerial errors, as well as the Department's analysis of these errors and other allegations raised, see Memorandum to James C. Doyle, Director, Office 9, through Alex Villanueva, Program Manager, from Alan Ray, Case Analyst: Antidumping Duty Administrative Review of Certain Frozen Fish Fillets from the Socialist Republic of Vietnam: Analysis of Ministerial Error Allegations, (April 8, 2009) (“Ministerial Error Memo”).

Additionally, in the Final Results, we determined that several companies qualified for a separate rate. See Final Results at 11350. The separate rate was based on the margin for QVD, the only mandatory respondent that received a calculated margin. The margin for QVD did not change following revisions made to the Final Results. Accordingly the margin for QVD and for the separate companies remains at 0.52 percent. Moreover, we note that the errors did not affect the Vietnam-Wide entity rate, and thus it will not be revised.

Therefore, in accordance with section 751(h) of the Act, we are amending the final results in the antidumping duty administrative review of certain frozen fish fillets from the Vietnam. After correcting these ministerial errors, the final weighted-average dumping margins remain as follows:

Certain Frozen Fish Fillets from Vietnam
Manufacturer/Exporter | Weighted-Average Margin
QVD³ | 0.52 %
Agifish⁴ | 0.52 %
Anvifish⁴ | 0.52 %
Vietnam-Wide Entity⁵ | 63.88 %
³ This rate is applicable to the QVD Single Entity which includes QVD, QVD Dong Thap, and Thuan Hung Co. Ltd.
⁴ For the exporters subject to review that are determined to be eligible for separate-rate status, but were not selected as mandatory respondents, the Department normally establishes a weighted-average margin based on an average of the rates it calculated for the mandatory respondents, excluding any rates that are zero, de minimis, or based entirely on facts available. In this proceeding, there is only one such mandatory respondent, QVD. Accordingly, the rate calculated for QVD is applied as the rate for Agifish and Anvifish.
⁵ This includes An Xuyen.

Assessment Rates

The Department intends to issue assessment instructions to U.S. Customs and Border Protection (“CBP”) 15 days after the date of publication of these amended final results of review. In accordance with 19 CFR 351.212(b)(1), we have calculated importer-specific assessment rates for merchandise subject to this review.

Cash Deposit Requirements

The following deposit requirements will be effective retroactively on any entries made on or after March 17, 2009, the date of publication of the Final Results, for all shipments of subject merchandise entered, or withdrawn from warehouse, for consumption as provided by section 751(a)(2)(C) of the Act: (1) for subject merchandise exported by QVD, Agifish, or Anvifish the cash deposit rate will be 0.53% ad-valorem; (2) for previously reviewed or investigated exporters not listed above that have separate rates, the cash deposit rate will continue to be the exporter-specific rate published for the most recent period; (3) for all Vietnamese exporters of subject merchandise, which have not been found to be entitled to a separate rate, the cash deposit rate will be the Vietnam-wide rate of 63.88 percent; and (4) for all non-Vietnamese exporters of subject merchandise that have not received their own rate, the cash deposit rate will be the rate applicable to the Vietnamese exporter that supplied that non-Vietnamese exporter. These deposit requirements shall remain in effect until further notice. In the 2nd administrative review, the Department stated that we would collect cash deposits and issue assessment instructions on a per-unit basis. See Certain Frozen Fish Fillets From the Socialist Republic of Vietnam: Final Results of the Second Administrative Review, 72 FR 13242, 13244 (March 21, 2007). Therefore, we intend to issue CBP instructions on that basis.

Notification of Interested Parties

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties. This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation that is subject to sanction.

We are issuing and publishing these amended final results of review and notice in accordance with sections 751(a) and 777(i) of the Act.

Dated: April 9, 2009.
Ronald K. Lorentzen,
Acting Assistant Secretary for Import Administration.

[FR Doc. E9-8871 Filed 4-16-09; 8:45 am]

BILLING CODE 3510-DS-S